DEPARTMENT OF THE INTERIOR

Bureau of Reclamation

[INT-FES-01-29]

Keechelus Dam Safety of Dams Modification, Yakima Project, Washington

AGENCY: Bureau of Reclamation, Interior.

ACTION: Notice of Availability for the Keechelus Dam Safety of Dams Modification, Yakima Project, Washington, Final Environmental Impact Statement.

SUMMARY: Pursuant to section 102(2)(C) of the National Environmental Policy Act of 1969, as amended, the Department of the Interior, Bureau of Reclamation (Reclamation), has prepared a final environmental impact statement (FEIS) examining the impacts of structural and nonstructural alternatives to correct safety deficiencies identified at Keechelus Dam.

The impacts of four alternatives that would correct safety deficiencies at Keechelus Dam, as well as the No Action Alternative are evaluated in this FEIS. The alternatives include: Modify Existing Dam (Preferred Alternative); Replace Existing Dam on New Alignment; Dam Breach; and Permanent Reservoir Restriction. The No Action Alternative is considered to be continued operation at the interim restriction to 2510 feet (7 feet below full pool), implemented in November 1998 to protect public safety. The impacts of the other alternatives were compared to the No Action Alternative.

The preferred alternative of modifying the dam would provide for the safe operation of Keechelus Dam and also maintain benefits from Keechelus Lake that include meeting existing contractual commitments for storage space for irrigators within the Yakima Project and controlling seasonal downstream flooding.

The FEIS includes all comment letters received on the DEIS and Reclamation's responses to those comments, as well as a summary of the comments from the public hearings. It also includes minor revisions and additions to the analysis as a result of review comments.

A Record of Decision (ROD) will be completed no sooner than 30 days after the publication of the Environmental Protection Agency's Notice of Availability of the FEIS in the Federal Register. The ROD will state the alternative that will be implemented and will discuss all factors leading to the decision. It is scheduled for issuance in October 2001. However, consultations under section 7 of the Endangered Species Act with the United States Fish and Wildlife Service and National Marine Fisheries Service are continuing and the ROD will not be signed until they are completed.

ADDRESSES: Copies of the FEIS are available for public inspection and review at the following locations:

• Bureau of Reclamation, U.S. Department of the Interior, Room 7455, 18th and C Streets NW, Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

Libraries

Carpenter Memorial Library, 302 N Pennsylvania Ave., Cle Elum, WA 98922; (509) 674-2313.

Central Washington University Library, 700 E 8th Ave., Ellensburg WA 98926; (509) 963-1777.

Ellensburg Public Library, 209 N Ruby, Ellensburg WA 98926; (509) 962-7250.

Yakima Valley Regional Library, 102 N 3rd St, Yakima WA 98901; (509) 452-8541.

University of Washington Campus, Suzzallo Library, Government Publications Division, Seattle WA 98195; (206) 543-1937.

Internet

The FEIS is also available on the Internet at: http://www.pn.usbr.gov/.

FOR FURTHER INFORMATION CONTACT: Mr. Dave Kaumheimer at (509) 575-5848, extension 232. Those wishing to obtain a copy of the FEIS in the form of a printed document or on compact disk (CD-ROM with reader included) or a Summary of the FEIS may contact Mr. Kaumheimer.

SUPPLEMENTARY INFORMATION: Keechelus Dam was completed in 1917 as part of Reclamation's Yakima Project, storing Yakima River water in central Washington for irrigation of part of 443,400 acres of prime farmland and for flood control. Recent investigations have shown that the wooden railroad trestle, used to deliver earth material and rocks while constructing the dam, has deteriorated, forming vertical paths where earthen materials within the dam can move, leaving voids in the dam. Examination of the seepage problems indicates the material is internally unstable and is subject to failure, with an associated potential for loss of life and property downstream. Because of the deficiencies identified, Keechelus Lake has been operated at a restricted pool elevation 7 feet below the normal full pool elevation of 2517 feet since November 1998, with increased monitoring and surveillance at the dam. This was identified as the No Action Alternative in the FEIS, and elevation 2510 was used in comparing impacts of the other alternatives.

The Safety of Dams Act of 1978 (Public Law 95-578) and amendments of 1984 (Public Law 98-404) authorize the Secretary of the Interior to analyze existing Reclamation dams for changes in the state-of-the-art criteria and additional hydrologic and seismic data developed since the dams were constructed. For dams where a safety concern exists, the Secretary is authorized to modify the structure to ensure its continued safety. Section 3 of the Safety of Dams Act states that construction authorized by the Act shall be for dam safety and not for specific purposes of providing additional conservation storage capacity or developing benefits over and above those provided by the original dams and reservoirs.

The major issue identified during the review of the DEIS was that fish passage is not provided as part of any of the alternatives. Reclamation indicated during scoping that this was outside the scope of the project which is to correct safety deficiencies in order to protect life and property. In addition, neither authority or funding for fish passage is provided under the Safety of Dams Act. None of the alternatives preclude addition of fish passage in the future and this will be pursued under a separate planning action. An appendix discussing fish passage concerns has been added to the FEIS.

Dated: August 30, 2001.
Kenneth R. Pedde,
Acting Regional Director, Pacific Northwest Region.

[FR Doc. 01-23887 Filed 9-24-01; 8:45 am]

BILLING CODE 4310-MN-P